SOCIAL SECURITY ADMINISTRATION

[Docket No. SSA-2020-0002]

Announcing Our Guidance Document Portal

AGENCY: Social Security Administration.

ACTION: Notice.

SUMMARY: This notice announces our new guidance document portal established under Executive Order 13891, “Promoting the Rule of Law Through Improved Agency Guidance Documents” (E.O. 13891) and the Office of Management and Budget's (OMB) memorandum, M-20-02, “Guidance Implementing Executive Order 13891, Titled 'Promoting the Rule of Law Through Improved Agency Guidance Documents.' ”

FOR FURTHER INFORMATION CONTACT: Jennifer Dulski, Office of Regulations and Reports Clearance, Social Security Administration, 3100 West High Rise, 6401 Security Boulevard, Baltimore, Maryland 21235-6401, (410) 966-2341. For information on eligibility or filing for benefits, call our national toll-free number, 1-800-325-0778, or visit our internet site, Social Security Online, at http://www.socialsecurity.gov.

SUPPLEMENTARY INFORMATION: On October 9, 2019, the President of the United States issued E.O. 13891.¹ E.O. 13891 states that it is the policy of the executive branch, to the extent consistent with applicable law, to require that agencies treat guidance documents as non-binding both in law and in practice, except as incorporated into a contract; take public input into account when appropriate in formulating guidance documents; and make guidance documents readily available to the public. In order to make guidance documents readily available to the public, E.O. 13891 requires that each agency or agency component, as appropriate, establish or maintain on its website a single, searchable, indexed portal that contains or links to all guidance documents in effect from such agency or component. It also requires that the guidance document portal include a statement informing the public that guidance documents lack the force and effect of law, except as authorized by law or as incorporated into a contract. Each agency or agency component, as appropriate, must establish its guidance document portal by February 28, 2020.

¹ 84 FR 55235, available at https://www.federalregister.gov/documents/2019/10/15/2019-22623/promoting-the-rule-of-law-through-improved-agency-guidance-documents.

We are announcing our new guidance document portal, which is available at www.socialsecurity.gov/guidance. By February 28, 2020, you will be able to access from our portal all of our guidance documents remaining in effect. We will also make this notice available on the portal.

Dated: February 24, 2020.
Andrew Saul,
Commissioner of Social Security.

[FR Doc. 2020-04177 Filed 2-28-20; 8:45 am]

BILLING CODE 4191-02-P